ENVIRONMENTAL PROTECTION AGENCY

[FRL-9933-08-OECA]

National Environmental Justice Advisory Council; Notification of Public Meeting and Public Comment

AGENCY: Environmental Protection Agency (EPA).

ACTION: Notice; public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come, first-served basis.

DATES: The NEJAC meeting will convene Thursday, September 10, 2015, from 9:00 a.m. until 5:00 p.m. Eastern Standard Time.

One public comment period relevant to the specific issues being considered by the NEJAC (see SUPPLEMENTARY INFORMATION) is scheduled for Wednesday, September 9, 2015, starting at 4:00 p.m. Eastern Standard Time. Members of the public who wish to participate during the public comment period are highly encouraged to pre-register by Midnight, Eastern Standard Time, on Monday, August 31, 2015.

ADDRESSES: The NEJAC meeting will be held at the EPA Potomac Yard offices located at 2777 S. Crystal Drive, Arlington, VA 16202.

FOR FURTHER INFORMATION CONTACT: Questions or correspondence concerning the meeting should be directed to Jasmin Muriel, U.S. Environmental Protection Agency, by mail at 1200 Pennsylvania Avenue NW., (MC1601A), Washington, DC 20460; by telephone at 202-564-4287; via email at Muriel.Jasmin@epa.gov; or by fax at 202-564-1624. Additional information about the NEJAC is available at: www.epa.gov/environmentaljustice/nejac.

Registration is required for all participants. Pre-registration by Midnight, Eastern Standard Time, on Monday, August 31, 2015, for all attendees is highly recommended. Because this NEJAC meeting will be held in government space, we strongly encourage you to register early. Space limitations may not allow us to accommodate everyone who is interested in attending. Priority admission will be given to pre-registered participants. To register, visit http://nejac-sept-2015-arlington.eventbrite.com. Please state whether you would like to be put on the list to provide oral public comment. Please specify whether you are submitting written comments before the Midnight, Monday, August 31, 2015, deadline. Non-English speaking attendees wishing to arrange for a foreign language interpreter may make appropriate arrangements in writing using the above telephone number.

SUPPLEMENTARY INFORMATION: The Charter of the NEJAC states that the advisory committee shall provide independent advice to the EPA Administrator about areas that may include, among other things, “advice about broad, cross-cutting issues related to environmental justice, including environment-related strategic, scientific, technological, regulatory, and economic issues related to environmental justice.”

The meeting shall be used to discuss and receive comments about the nexus between sustainability and environmental justice. Specifically, the NEJAC will discuss these primary areas: (1) Dialogue about Civil Rights, (2) NEJAC Charge on improving environmental outcomes through monitoring, (3) Update on the Clean Power Plan, (4) NEJAC Charge on Youth Perspectives on Climate Change.

A. Public Comment: Individuals or groups making oral presentations during the public comment periods will be limited to a total time of seven minutes. To accommodate the large number of people who want to address the NEJAC, only one representative of an organization or group will be allowed to speak. If time permits, multiple representatives from the same organization can provide comment at the end of the session. In addition, those who did not sign up in advance to give public comment can sign up on site. The suggested format for written public comments is as follows: Name of Speaker; Name of Organization/Community; City and State; Email address; and a brief description of the concern and what you want the NEJAC to advise EPA to do. Written comments received by Midnight, Eastern Standard Time, on Monday, August 31, 2015, will be included in the materials distributed to the members of the NEJAC. Written comments received after that date and time will be provided to the NEJAC as time allows. All information should be sent to the mailing address, email address, or fax number listed in the FOR FURTHER INFORMATION CONTACT section above.

B. Information about Services for Individuals with Disabilities: For information about access or services for individuals with disabilities, please contact Jasmin Muriel, at (202) 564-4287 or via email at Muriel.Jasmin@EPA.gov. To request special accommodations for a disability, please contact Ms. Muriel at least four working days prior to the meeting, to give EPA sufficient time to process your request. All requests should be sent to the address, email, or phone/fax number listed in the FOR FURTHER INFORMATION CONTACT section above.

Dated: August 18, 2015.
Matthew Tejada,
Designated Federal Officer, National Environmental Justice Advisory Council.

[FR Doc. 2015-21212 Filed 8-25-15; 8:45 am]

BILLING CODE 6560-50-P